DEPARTMENT OF COMMERCE

International Trade Administration

[C-533-868]

Welded Stainless Pressure Pipe From India: Rescission of the Countervailing Duty Administrative Review; 2017

AGENCY: Enforcement and Compliance, International Trade Administration, Department of Commerce.

SUMMARY: The Department of Commerce (Commerce) is rescinding the administrative review of the countervailing duty order on welded stainless pressure pipe (WSPP) from India for the period January 1, 2017, through December 31, 2017.

DATES: Applicable May 29, 2019.

FOR FURTHER INFORMATION CONTACT: Emily Halle or Charles Doss, AD/CVD Operations, Office III, Enforcement and Compliance, International Trade Administration, U.S. Department of Commerce, 1401 Constitution Avenue NW, Washington, DC 20230; telephone: (202) 482-0176 and (202) 482-4474, respectively.

SUPPLEMENTARY INFORMATION:

Background

On November 1, 2018, Commerce published a notice of opportunity to request an administrative review of the countervailing duty (CVD) order on WSPP from India.¹ On February 6, 2019, in accordance with section 751(a) of the Tariff Act of 1930, as amended (the Act), Commerce published a notice of initiation of an administrative review of the order covering the period January 1, 2017, through December 31, 2017.² On March 8, 2019, Commerce selected Hindustan Inox Limited (Hindustan Inox), and Sun Mark Stainless Pvt. Ltd. and its cross-owned affiliates, Sunrise Stainless Private Limited and Shah Foils Ltd. (collectively, Sun Mark), as the mandatory respondents in this administrative review.³ On May 7, 2019, Hindustan Inox and Sun Mark withdrew their requests for review; Bristol Metals and Primus Pipe & Tube (the petitioners) also submitted a timely request to rescind the administrative review of the CVD order of WSPP from India with respect to all entities for which it had requested a review.⁴

¹ See Antidumping or Countervailing Duty Order, Finding, or Suspended Investigation; Opportunity to Request Administrative Review, 83 FR 54912 (November 1, 2018).

² See Initiation of Antidumping and Countervailing Duty Administrative Reviews, 84 FR 2159 (February 6, 2019).

³ See Memorandum, “Administrative Review of the Countervailing Duty Order of Welded Stainless Pressure Pipes from India: Respondent Selection,” dated March 8, 2019.

⁴ See Hindustan's letter, “Welded Stainless Pressure Pipe from India: Withdrawal of Request for Countervailing Duty Administrative Review of Hindustan Inox Limited.,” dated May 7, 2019; Sun Mark's letter, “Welded Stainless Pressure Pipes from India: Withdrawal of Request for Countervailing Duty Administrative Review,” dated May 7, 2019; the petitioners' letter, “Welded Stainless Pressure Pipe from India: Request to Rescind Administrative Review,” dated May 7, 2019.

Rescission of Review

Pursuant to 19 CFR 351.213(d)(1), the Secretary will rescind an administrative review, in whole or in part, if the party or parties who requested the review withdraw(s) the request within 90 days of the date of publication of the notice of initiation of the requested review. Hindustan Inox, Sun Mark, and the petitioners timely withdrew their requests for an administrative review, and no other party requested a review of these companies. Therefore, we are rescinding the administrative review of the CVD order on WSPP from India covering the period January 1, 2017, to December 31, 2017, in its entirety.

Assessment

Commerce will instruct U.S. Customs and Border Protection (CBP) to assess countervailing duties on all appropriate entries. Because Commerce is rescinding this administrative review in its entirety, the entries to which this administrative review pertains shall be assessed countervailing duties that are equal to the cash deposits of estimated countervailing duties required at the time of entry, or withdrawal from warehouse, for consumption, in accordance with 19 CFR 351.212(c)(1)(i). Commerce intends to issue appropriate assessment instructions to CBP 15 days after the publication of this notice in the Federal Register.

Notification Regarding Administrative Protective Order

This notice serves as a final reminder to parties subject to an administrative protective order (APO) of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: May 22, 2019.
Gary Taverman,
Deputy Assistant Secretary for Antidumping and Countervailing Duty Operations.

[FR Doc. 2019-11125 Filed 5-28-19; 8:45 am]

BILLING CODE 3510-DS-P